DEPARTMENT OF STATE

[Public Notice 4330]

Bureau of Democracy, Human Rights and Labor Call for Statements of Interest: Democracy, Human Rights, and the Rule of Law in the People's Republic of China

SUMMARY: The Office for the Promotion of Human Rights and Democracy of the Bureau of Democracy, Human Rights and Labor (DRL) announces a call for statements of interest from organizations interested in being invited to submit proposals for projects on promoting democracy, human rights and the rule of law in China. This is an initial solicitation to ascertain organizations that may be interested in doing projects in China and does not constitute a request for proposals. Organizations invited to submit proposals will have an opportunity to expand on their statements at a later date.

Statements of Interest

The Bureau of Democracy, Human Rights and Labor (DRL) invites organizations to submit statements of interest of no more than two pages outlining program concepts and capacity to manage projects that will foster democracy, human rights, freedom of information, judicial independence, criminal and civil rule of law, and civil society in the People's Republic of China. Statements should include the following information:

(1) Brief description of the organization;

(2) Project objectives, activities and the desired outcomes.

Recipients should not submit a budget at this time, but responses should indicate approximate project totals.

Additional Information

The Bureau's Human Rights and Democracy Fund (HRDF) supports innovative, cutting-edge programs which uphold democratic principles, support and strengthen democratic institutions, promote human rights, and build civil society in countries and regions of the world that are geo-strategically important to the U.S. HRDF funds projects that have an immediate impact but that have potential for continued funding beyond HRDF resources. HRDF projects must not duplicate or simply add to efforts by other entities.

DRL is interested in funding projects to begin no earlier than late summer 2003 and not to exceed two years in duration. Twelve-eighteen months programs will be the preferred award period. The bulk of project activities must take place in-country; U.S-based activities or exchange projects are not encouraged. Projects that draw on resources from greater China will be considered, but the majority of activities should address the PRC directly. Projects that have a strong academic or research focus will not be highly considered. DRL will not fund health, technology, environmental, or scientific projects unless they have an explicit democracy, human rights, or rule of law component. Projects that focus on commercial law or economic development will not be highly considered.

Pending availability of funds, approximately 8,500,000 is expected to be available under the Economic Support Funds through the Bureau's Human Rights and Democracy Fund (HRDF) for projects that address Bureau objectives in China. The Bureau anticipates making awards in amounts of $250,000-$1,000,000 to support program and administrative costs required to implement these programs.

Applicant/Organization Criteria

Organizations submitting statements should meet the following criteria:

• Be a U.S. public or private non-profit organization. For-profit organizations may submit statements of interest. Foreign organizations may be sub-recipients of U.S organizations or they may submit statements directly. Direct submissions should indicate the organization's ability to comply with U.S. government accounting and auditing standards.

• Have demonstrated experience administering successful projects in China or in similar challenging program environments.

• Have existing, or the capacity to develop, active partnerships with in-country organization(s).

• Organizations may form consortia and submit a combined statement of interest.

Review Process

The Bureau will acknowledge receipt of all submissions. Following a review of all submissions, organizations may be invited to submit full proposals. Invitations will be based on subjective evaluation of how the project meets the criteria outlined, United States foreign policy objectives, and priority needs of DRL.

Deadline and Submission Instructions

Applicants should submit statements of interest by overnight express courier services such as Federal Express or DHL, or by local courier service to: the U.S. Department of State, Bureau of Democracy, Human Rights and Labor, Room 7802, 2201 C Street, NW., Washington, DC 20520. Proposals delivered by local courier should be delivered to the “Jogger's Entrance” on 21st street between C and D streets. Due to slow mail processing within the Department of State, we do not recommend submitting proposals via the U.S. postal system. Faxed documents will not be accepted at any time. All submissions must be received at the Bureau of Democracy, Human Rights and Labor by 5 p.m. Eastern Standard Time (EST) on Wednesday, April 23, 2003.

FOR FURTHER INFORMATION CONTACT: The Office for the Promotion of Human Rights and Democracy of the Bureau of Democracy, Human Rights and Labor, DRL/PHD. Please specify Amy Gadsden, 202-647-2551, on all inquiries and correspondence.

Dated: April 1, 2003.
Lorne W. Craner,
Assistant Secretary for Democracy, Human Rights and Labor, Department of State.

[FR Doc. 03-8391 Filed 4-4-03; 8:45 am]

BILLING CODE 4710-18-P